DEPARTMENT OF THE INTERIOR

Fish and Wildlife Service

Notice of Availability for the Renewal of an Expired Section 10(a)(1)(B) Permit for Incidental Take of the Golden-cheeked Warbler in Travis County, TX (Scarpato)

AGENCY: Fish and Wildlife Service, Interior.

ACTION: Notice of availability.

SUMMARY: On October 19, 2001, the U.S. Fish and Wildlife Service (Service) issued a section 10(a)(1)(B) permit, pursuant to Section 10(a) of the Endangered Species Act (Act), for incidental take of the golden-cheeked warbler (Dendroica chrysoparia)(GCWA) to Thomas Scarpato and Janet Neyland-Scarpato (Applicant). The permit (TE-042733-0) was for a period of five years and expired on October 19, 2006. The requested permit renewal by Mr. and Mrs. Scarpato will extend the permit expiration by five years from the date the permit is reissued.

DATES: To ensure consideration, written comments must be received on or before December 24, 2007.

ADDRESSES: Persons wishing to review the request for extension, former incidental take permit, or other related documents may obtain a copy by written or telephone request to Allison Arnold, U.S. Fish and Wildlife Service, 10711 Burnet Road, Suite 200, Austin, Texas 78758 (512/490-0057 ext. 242). Documents will be available for public inspection by written request, or by appointment only, during normal business hours (8 a.m. to 4:30 p.m.) at the Service's Austin Office. Comments concerning the request for renewal should be submitted in writing to the Field Supervisor at U.S. Fish and Wildlife Service, 10711 Burnet Road, Suite 200, Austin, Texas 78758. Please refer to permit number TE-042733-0 when submitting comments.

FOR FURTHER INFORMATION CONTACT: Allison Arnold at the U.S. Fish and Wildlife Service Austin Office, 10711 Burnet Road, Suite 200, Austin, Texas 78758 (512/490-0057 ext. 242).

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Applicant: Mr. and Mrs. Scarpato plan to construct a single family residence on their 2.67-acre lot located at 8110 Two Coves Drive, Austin, Texas. The construction of a single family residence on approximately 0.75 acres of the 2.67-acre lot will eliminate less than one acre of GCWA habitat and indirectly impact less than four additional acres of habitat. The original permit included, and the Applicant has already provided $1,500 to the Balcones Canyonlands Preserve to mitigate impacts to the GCWA. This money will be used by the Balcones Canyonlands Preserve to acquire additional GCWA habitat. The Applicant has agreed to follow all other existing permit terms and conditions. If renewed, all of the permit terms and conditions will remain the same, and no additional take will be authorized.

Section 9 of the Act prohibits the “taking” of threatened or endangered species. However, the Service, under limited circumstances, may issue permits to take threatened and endangered wildlife species incidental to, and not the purpose of, otherwise lawful activities.

We provide this notice under section 10(c) of the Act (16 U.S.C. 1531 et seq.) and its implementing regulations (50 CFR 17.22), and the National Environmental Policy Act (42 U.S.C. 4371 et seq.) and its implementing regulations (40 CFR 1506.6).

Thomas L. Bauer,
Acting Regional Director, Region 2, Albuquerque, New Mexico.

[FR Doc. E7-22819 Filed 11-21-07; 8:45 am]

BILLING CODE 4510-55-P